DEPARTMENT OF TRANSPORTATION

Federal Aviation Administration

14 CFR Part 71

[Docket No. FAA-2004-17341; Airspace Docket No. 02-ASO-4]

Establishment of Class D Airspace; Greenville Donaldson Center, SC, Amendment of Class E Airspace; Greer, Greenville-Spartanburg Airport, SC, and Amendment of Class E Airspace; Greenville, SC

AGENCY: Federal Aviation Administration (FAA), DOT.

ACTION: Final rule; confirmation of effective date.

SUMMARY: This action confirms the new effective date for the establishment of Class D airspace at Greenville Donaldson Center, SC, the amendment of Class E2 airspace at Greer, Greenville-Spartanburg Airport, SC, and the amendment of Class E5 airspace at Greenville, SC. The construction of a new federal contract tower with a weather reporting system was delayed; therefore, the effective date of the establishment of Class D and E2 airspace and amendment of Class E5 airspace was also delayed.

EFFECTIVE DATE: The effective date of November 28, 2002, published on May 1, 2002, (67 FR 21575), and subsequently delayed indefinitely (67 FR 65872), is now 0901 UTC, August 5, 2004.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

Airspace Docket No. 02-ASO-04, published in the Federal Register on May 1, 2002 (67 FR 21575), established Class D airspace at Greenville Donaldson Center, SC, amended Class E2 airspace at Greer, Greenville-Spartanburg Airport, SC, and amended Class E5 airspace at Greenville, SC. The construction of a federal contract tower with a weather reporting system at Donaldson Center Airport made this action necessary. This action was originally scheduled to become effective on November 28, 2002; however, an unforeseen delay in beginning construction on the tower required the effective date of this action to be delayed. Construction is now nearing completion.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Confirmation of Effective Date

The effective date on Airspace Docket No. 02-ASO-4 is hereby confirmed to be August 5, 2004.

Authority: 49 U.S.C. app. 1348(a), 1354(a), 1510; E.O. 10854, 24 FR 9565, 3 CFR, 1959-1963 Comp., p. 389; 49 U.S.C. 106(g); 14 CFR 11.69.

* * * * *

Issued in College Park, Georgia, on March 24, 2004.
Jeffrey U. Vincent,
Acting Manager, Air Traffic Division, Southern Region.

[FR Doc. 04-8360 Filed 4-12-04; 8:45 am]

BILLING CODE 4910-13-M